DEPARTMENT OF COMMERCE

Foreign-Trade Zones Board

[Docket 57-2002]

Proposed Foreign-Trade Zone—Imperial County, California; Application and Public Hearing

An application has been submitted to the Foreign-Trade Zones (FTZ) Board (the Board) by the County of Imperial, California, to establish a general-purpose foreign-trade zone at sites in Imperial County, within and adjacent to the Calexico Customs port of entry. The application was submitted pursuant to the provisions of the FTZ Act, as amended (19 U.S.C. 81a-81u), and the regulations of the Board (15 CFR part 400). It was formally filed on December 3, 2002. The applicant is authorized to make the proposal under Section 6302 of the California Code.

The proposed zone would consist of sites covering 1,950 acres in Imperial County and within the City limits of Brawley, Calexico, Calipatria and El Centro: Site 1 (755 acres, 3 parcels)—Site 1a (597 acres)—Gateway of the Americas, State Route 7 and State Highway 98, Imperial County; Site 1b (43 acres)—Imperial County Airport, State Highway 86 and Aten Road; Site 1c (115 acres)—Drewry Warehousing complex, 340 West Ralph Road, Imperial County; Site 2 (77 acres, 2 parcels)—Site 2a (32 acres)—Airport Industrial Park, Jones Drive and Best Road with adjacent parcel on Duarte Street, Brawley; Site 2b (45 acres)—Luckey Ranch Industrial Park, Best Road and Shank Road, Brawley; Site 3 (483 acres)—located at (a) Calexico International Airport (227 acres) and (b) adjacent industrial parks (256 acres) within the Calexico Community Redevelopment Agency project area; Site 4 (104 acres)—Calipatria Airport Industrial Park and adjacent parcel, Main Street, International and Lyerly Roads, Calipatria; and, Site 5 (531 acres)—within the El Centro Community Redevelopment Agency project area (Danenberg Road, Dogwood Road and I-8), El Centro. The sites are generally located within the County's Federal Empowerment Zone and Enterprise Community Initiative area.

The application indicates a need for foreign-trade zone services in the Imperial County area. Several firms have indicated an interest in using zone procedures for warehousing/distribution of such items as videos, construction/agricultural equipment and parts, electronics and furniture. Specific manufacturing approvals are not being sought at this time. Requests would be made to the Board on a case-by-case basis.

In accordance with the Board's regulations, a member of the FTZ Staff has been designated examiner to investigate the application and report to the Board.

As part of the investigation, the Commerce examiner will hold a public hearing on January 15, 2003, at 2 p.m., at the City Hall Council Chambers, City of Calexico, 608 Heber Avenue, Calexico, California 92231.

Public comment on the application is invited from interested parties. Submissions (original and 3 copies) shall be addressed to the Board's Executive Secretary at one of the following addresses:

1. Submissions via Express/Package Delivery Services: Foreign-Trade Zones Board, U.S. Department of Commerce, Franklin Court Building—Suite 4100W, 1099—14th Street, NW., Washington, DC 20005; or

2. Submissions via the U.S. Postal Service: Foreign-Trade Zones Board, U.S. Department of Commerce, FCB-Suite 4100W, 1401 Constitution Avenue, NW., Washington, DC 20230.

The closing period for their receipt is February 7, 2003. Rebuttal comments in response to material submitted during the foregoing period may be submitted during the subsequent 15-day period (to February 24, 2003).

A copy of the application and accompanying exhibits will be available for public inspection at the Office of the Foreign-Trade Zones Board's Executive Secretary at the first address listed above, and at the Office of the Economic Development Coordinator, Imperial County Community & Economic Development, 836 Main Street, El Centro, California 92243.

Dated: December 3, 2002.
Dennis Puccinelli,
Executive Secretary.

[FR Doc. 02-31038 Filed 12-6-02; 8:45 am]

BILLING CODE 3510-DS-P